DEPARTMENT OF ENERGY

Federal Energy Regulatory Commission

Combined Notice of Filings

Take notice that the Commission has received the following Natural Gas Pipeline Rate and Refund Report filings:

Filings Instituting Proceedings

Docket Number: PR19-54-001.

Applicants: Impulsora Pipeline, LLC.

Description: Tariff filing per 284.123(b),(e)/: Amendment to 1 to be effective 3/5/2019.

Filed Date: 10/17/19.

Accession Number: 201910175071.

Comments/Protests Due: 5 p.m. ET 11/7/19.

Docket Number: PR20-2-000.

Applicants: Valley Crossing Pipeline, LLC.

Description: Tariff filing per 284.123(b)(2),(g): Valley Crossing Pipeline, LLC Baseline SOC to be effective 10/18/2019.

Filed Date: 10/18/19.

Accession Number: 201910185077.

Comments Due: 5 p.m. ET 11/8/19.

284.123(g) Protests Due: 5 p.m. ET 12/17/19.

Docket Numbers: RP19-741-002.

Applicants: ANR Pipeline Company.

Description: Compliance filing ANR 2019 Fuel Compliance Filing to be effective 4/1/2019.

Filed Date: 10/17/19.

Accession Number: 20191017-5134.

Comments Due: 5 p.m. ET 10/29/19.

Docket Numbers: RP19-847-001.

Applicants: PGPipeline LLC.

Description: Compliance filing PGPipeline LLC Additional NAESB Compliance Filing to be effective 8/1/2019.

Filed Date: 10/17/19.

Accession Number: 20191017-5032.

Comments Due: 5 p.m. ET 10/29/19.

Docket Numbers: RP20-72-000.

Applicants: Colorado Interstate Gas Company, L.L.C.

Description: § 4(d) Rate Filing: Black Hills Assigment TSA # 214677-TF1CIG to be effective 10/1/2019.

Filed Date: 10/17/19.

Accession Number: 20191017-5084.

Comments Due: 5 p.m. ET 10/29/19.

Docket Numbers: RP20-73-000.

Applicants: Destin Pipeline Company, L.L.C.

Description: § 4(d) Rate Filing: Destin Pipeline—Negotiated Rate Agreement Filing to be effective 12/1/2019.

Filed Date: 10/17/19.

Accession Number: 20191017-5098.

Comments Due: 5 p.m. ET 10/29/19.

Docket Numbers: RP20-74-000.

Applicants: Wyoming Interstate Company, L.L.C.

Description: § 4(d) Rate Filing: Name Change and Housekeeping Matters to be effective 10/3/2019.

Filed Date: 10/17/19.

Accession Number: 20191017-5099.

Comments Due: 5 p.m. ET 10/29/19.

Docket Numbers: RP20-75-000.

Applicants: Natural Gas Pipeline Company of America.

Description: § 4(d) Rate Filing: Negotiated Rate Agreement—Citadel Energy to be effective 11/1/2019.

Filed Date: 10/18/19.

Accession Number: 20191018-5000.

Comments Due: 5 p.m. ET 10/30/19.

Docket Numbers: RP20-76-000.

Applicants: Centra Pipelines Minnesota Inc.

Description: § 4(d) Rate Filing: Updated Shipper Index Dec 2019 to be effective 12/1/2019.

Filed Date: 10/18/19.

Accession Number: 20191018-5065.

Comments Due: 5 p.m. ET 10/30/19.

Docket Numbers: RP20-77-000.

Applicants: Natural Gas Pipeline Company of America.

Description: § 4(d) Rate Filing: Negotiated Rate Agreements—Macquarie Energy to be effective 11/1/2019.

Filed Date: 10/18/19.

Accession Number: 20191018-5098.

Comments Due: 5 p.m. ET 10/30/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 21, 2019.
Nathaniel J. Davis, Sr.,
Deputy Secretary.

[FR Doc. 2019-23422 Filed 10-25-19; 8:45 am]

BILLING CODE 6717-01-P